DEPARTMENT OF ENERGY

Federal Energy Regulatory Commission

Notice of Effectiveness of Exempt Wholesale Generator Status

| Docket Nos.
Flat Top Wind I, LLC | EG17-56-000
Solar Star Oregon II, LLC | EG17-57-000
Whitney Point Solar, LLC | EG17-58-000
Westside Solar, LLC | EG17-59-000
RE Tranquillity 8 Amarillo LLC | EG17-60-000
RE Tranquillity 8 Azul LLC | EG17-61-000
RE Tranquillity 8 Rojo LLC | EG17-62-000
RE Tranquillity 8 Verde LLC | EG17-63-000
Chambersburg Energy, LLC | EG17-64-000
Gans Energy, LLC | EG17-65-000
Hunlock Energy, LLC | EG17-66-000
Springdale Energy, LLC | EG17-67-000
Bath County Energy, LLC | EG17-68-000
Paulding Wind Farm IV LLC | EG17-69-000
Blue Summit Storage, LLC | EG17-70-000

Take notice that during the month of April 2017, the status of the above-captioned entities as Exempt Wholesale Generators became effective by operation of the Commission's regulations. 18 CFR 366.7(a) (2016).

Dated: May 8, 2017.
Kimberly D. Bose,
Secretary.

[FR Doc. 2017-09674 Filed 5-11-17; 8:45 am]

BILLING CODE 6717-01-P